DEPARTMENT OF TRANSPORTATION

Pipeline and Hazardous Materials Safety Administration

Office of Hazardous Materials Safety; Notice of Applications for Modification of Special Permit

AGENCY: Pipeline and Hazardous Materials Safety Administration (PHMSA), DOT.

ACTION: List of applications for modification of special permits.

SUMMARY: In accordance with the procedures governing the application for, and the processing of, special permits from the Department of Transportation's Hazardous Material Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before September 18, 2015.

ADDRESSES: Send comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, 202-366-4314.

SUPPLEMENTARY INFORMATION: Copies of the applications are available for inspection in the Records Center, East Building, PHH-30, 1200 New Jersey Avenue Southeast, Washington, DC or at http://regulations.gov.

This notice of receipt of applications for modification of special permit is published in accordance with part 107 of the Federal hazardous materials transportation law (49 U.S.C. 5117(b); 49 CFR 1.53(b)).

Issued in Washington, DC, on August 6, 2015.
Donald Burger,
Chief, General Approvals and Permits.

Application No. | Docket No. | Applicant | Regulation(s) affected | Nature of special permits thereof
MODIFICATION SPECIAL PERMITS
9847-M |  | FIBA Technologies, Inc. (FIBA), Millbury, MA | 49 CFR 180.209(a), 180.205(c), (f), (g) and (i), 173.302a, (b), (2), (3), (4) and (5), and 180.213 | To modify the special permit to authorize DOT Specification 3AAX-6000 seamless steel cylinders to be requalified by acoustic emission and ultrasonic examinations (AE/UE).
11054-M |  | Welker Inc., Sugar Land, TX | 49 CFR 178.36 subpart C | To modify the special permit to authorize additional hazardous materials.
12549-M |  | TRISTAR Engineering Consulting Logistic SA, 78311, Bucharest | 49 CFR 178.245-1(a) | To modify the special permit to an offer special permit and add “no new construction to this package is authorized” and company name change.
14799-M |  | Takata Sachsen GmbH, GroBweitzschen | 49 CFR 173.301(a) and 173.302a | To modify the shipping description for UN3268 and add the description Safety devices, pyrotechnic, Division 1.40, UN0503.
14833-M |  | Takata AG Aschaffenburg | 49 CFR 173.301(a), 173.302a, 175.3 and 178.65(f)(2) | To modify the special permit by removing the restriction on cylinder diameters and water capacities, modify the shipping description for UN3268 and add the description Safety devices, pyrotechnic, Division 1.40, UN0503.
14867-M |  | GTM Manufacturing, LLC, Amarillo, TX | 49 CFR 173.302a and 173.304 | To modify the special permit to authorize additional hazardous materials.
15372-M |  | Takata de Mexico, S.A. de C.V., Ciudad Frontera | 49 CFR 173.301(a), 173.302(a), 178.65(f)(2) | To modify the special permit to authorize additional hazardous materials.
15610-M |  | WavesinSolids LLC, State College, PA | 49 CFR 180.209, 180.209(a), 180.205(c)(f)(g)(i), 173.302a, (b), (2), (3), (4), (5), 180.213, 180.519(a), 180.519(b)(c) | To modify the special permit to authorize non-DOT specification cylinders manufactured under special permits DOT-SP 13230, DOT-SP 13258 and UN cylinders made in accordance with ISO 11120.
16302-M |  | Ametek Inc. Pittsburgh, PA | 49 CFR 171.1 | To modify the special permit to authorize glass ampules with a 31 ml actual capacity and remove the 30 kg limit when ampules are installed in analyzing equipment.
16429-M |  | Construction Helicopters, Inc., Howell, MI | 49 CFR 172.101 Hazardous Materials Table Column (9B), subpart C of part 172, 172.301(c), 175.30 | To modify the special permit to remove the provision “training or qualification of a new crew member will not take place during the execution of this special permit”.

[FR Doc. 2015-20483 Filed 8-27-15; 8:45 am]

BILLING CODE 4910-60-M